DEPARTMENT OF HEALTH AND HUMAN SERVICES

National Institutes of Health

National Cancer Institute Amended; Notice of Meeting

Notice is hereby given of a change in the meeting of the National Cancer Institute Special Emphasis Panel, April 18, 2012, 1 p.m. to April 18, 2012, 5 p.m., National Institutes of Health, 6116 Executive Boulevard, 8055B, Rockville, MD 20852 which was published in the Federal Register on March 1, 2012, 77 FR 12600.

This notice is being amended to change the times of the meeting from 1 p.m.-5 p.m. to 12 p.m.-3 p.m. The meeting is closed to the public.

Dated: March 9, 2012.
Jennifer S. Spaeth,
Director, Office of Federal Advisory Committee Policy.

[FR Doc. 2012-6352 Filed 3-15-12; 8:45 am]

BILLING CODE 4140-01-P